DEPARTMENT OF TRANSPORTATION

Federal Aviation Administration

Public Notice for Waiver of Aeronautical Land-Use Assurance, Cambridge Municipal Airport, Cambridge, OH

AGENCY: Federal Aviation Administration, DOT.

ACTION: Notice of intent of waiver with respect to land.

SUMMARY: The Federal Aviation Administration (FAA) is considering a proposal to change a portion of the airport from aeronautical use to non-aeronautical use and to authorize the release 4.105 acres of vacant airport property for an exchange of property between the Cambridge Area Regional Airport Authority and Dunning Investment Company, Ltd. The land was conveyed to the Cambridge Area Regional Airport Authority in Deed Volume 364, page 656 of the Recorder's Office, Guernsey County, Ohio. The land was acquired under FAA Project No. 3-39-0013-0303. There are no impacts to the airport by allowing the airport to dispose of the property. Approval does not constitute a commitment by the FAA to financially assist in the disposal of the subject airport property nor a determination of eligibility for grant-in-aid funding from the FAA. In exchange, the Cambridge Regional Airport Authority will receive a parcel of land adjacent to Cambridge Municipal Airport. This parcel is necessary to meet design standards for future airport development as indicated on the Airport Layout Plan for Cambridge Municipal Airport.

In accordance with section 47107(h) of title 49, United States Code, this notice is required to be published in the Federal Register 30 days before modifying the land-use assurance that requires the property to be used for an aeronautical purpose.

DATES: Comments must be received on or before August 21, 2006.

FOR FURTHER INFORMATION CONTACT: Melanie Laud, Program Manager, 11677 South Wayne Road, Suite 107, Romulus, Michigan 48174. Telephone Number (734) 229-2929/FAX Number (734) 229-2950. Documents reflecting this FAA action may be reviewed at this same location or at Cambridge Municipal Airport, Cambridge, Ohio.

SUPPLEMENTARY INFORMATION: Following is a legal description of the property located in Cambridge, Guernsey County, Ohio, and described as follows: Situated in Jackson Township, Guernsey County, Ohio and being 4.105 acres more or less in Military Lot #29, Township #1 North, Range #3 West in the United States Military Lands Survey and being more particularly described as follows: Commencing at an iron pin found at the Northwest corner of Military Lot #29, Thence with the west line of Military Lot #29 S 05°15′28″ W a distance of 514.25 feet to an iron pin found, the BEGINNING.

Thence with the lands of now or formerly Anne Stillion as found in Official Record Book 43 Page 1075 the following two (2) calls: 1. N 69°10′42″ E a distance of 185.03 feet to an iron pin found. 2. N 04°09′20″ E a distance of 164.76 feet to a P.K. Nail found.

Thence with the lands of now or formerly Dunning Investment Company, LTD as found in Official Record Book 184 Page 675 the following two (2) calls: 1. S 54°21′37″ E a distance of 343.67 feet to an iron pin found. 2. S 55°02′55″ E a distance of 129.55 feet to an iron pin set.

Thence with the lands of now or formerly Cambridge Area Regional Airport as found in Official Record Book 319 Page 732 S 36°20′31″ W a distance of 410.12 feet to an iron pin set.

Thence with the lands of now or formerly Cambridge Area Regional Airport as found in Official Record Book 384 Page 655 N 54°14′07″ W a distance of 418.18 feet to an iron pin set.

Thence with the lands of now or formerly Muskingum Area Technical College as found in Official Record Book 247 Page 889 N 05°15′28″ E a distance of 130.87 feet to the beginning and containing 4.105 acres more or less and being a part of the property conveyed to Cambridge Area Regional Airport as found in Official Record Book 384 Page 655.

Part of A.P. #11-02307.

Subject to a height restriction easement area that is 817 MSL and described as follows: Beginning at an iron pin found at Southeast corner of the above described property.

Thence N 54°14′07″ W a distance of 78.50 feet to an iron pin set.

Thence N 36°20′31″ E a distance of 409.01 feet to an iron pin set.

Thence S 55°02′55″ E a distance of 78.52 feet to an iron pin set.

Thence S 36°20′31″ W a distance of 410.12 feet to the beginning and containing 0.738 acres more or less. Subject to all easements or leases of public record. Bearings are magnetic and are for angle purpose only. Iron pins set are 5/8 inch rebar 30 inches long capped SPILKER LS-5862.

Dated: Issued in Romulus, Michigan on June 22, 2006.
Irene R. Porter,
Manager, Detroit Airports District Office, FAA, Great Lakes Region.

[FR Doc. 06-6379 Filed 7-19-06; 8:45 am]

BILLING CODE 4910-13-M